ENVIRONMENTAL PROTECTION AGENCY

[EPA-HQ-OAR-2003-0079: FRL-9180-8]

Agency Information Collection Activities; Submission to OMB for Review and Approval; Comment Request; 8-Hour Ozone National Ambient Air Quality Standard Implementation Rule (Renewal), EPA ICR No. 2236.03, OMB Control No. 2060-0594

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before August 26, 2010.

ADDRESSES: Submit your comments, referencing Docket ID No. EPA-HQ-OAR-2003-0079, to (1) EPA online using http://www.regulations.gov (our preferred method), by e-mail to a-and-r-docket@epa.gov, or by mail to: EPA Docket Center, Environmental Protection Agency, Air and Radiation Docket, Mailcode 28221T, 1200 Pennsylvania Ave., NW., Washington, DC 20460, and OMB by mail to: Office of Information and Regulatory Affairs, Office of Management and Budget (OMB), Attention: Desk Officer for EPA, 725 17th Street, NW., Washington, DC 20503.

FOR FURTHER INFORMATION CONTACT: Mr. H. Lynn Dail, Air Quality Policy Division, Office of Air Quality Planning and Standards, Mail Code C539-01, Environmental Protection Agency, T.W. Alexander Drive, Research Triangle Park, NC 27711; telephone number: (919) 541-2363; fax number: (919) 541-0824; e-mail address: dail.lynn@epa.gov.

SUPPLEMENTARY INFORMATION: EPA has submitted the following ICR to OMB for review and approval according to the procedures prescribed in 5 CFR 1320.12. On April 8, 2010 (75 FR 17915), EPA sought comments on this ICR pursuant to 5 CFR 1320.8(d). EPA received no comments during the comment period. Any additional comments on this ICR should be submitted to EPA and OMB within 30 days of this notice.

EPA has established a public docket for this ICR under Docket ID No. EPA-HQ-OAR-2003-0079, which is available for online viewing at http://www.regulations.gov, or in person viewing at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change unless the comment contains copyrighted material, confidential business information (CBI), or other information whose public disclosure is restricted by statute. For further information about the electronic docket, go to http://www.regulations.gov.

Title: 8-Hour Ozone National Ambient Air Quality Standard Implementation Rule (Renewal).

ICR numbers: EPA ICR No. 2236.03, OMB Control No. 2060-0594.

ICR status: This ICR is scheduled to expire on July 31, 2010. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: The PRA requires the information found in this ICR to assess the burden (in hours and dollars) of the 8-hour Ozone National Ambient Air Quality Standard (NAAQS) Implementation Rule as well as the periodic reporting and recordkeeping necessary to maintain the rule. The rule was proposed June 2, 2003 (68 FR 32802) and promulgated in two Phases: Phase 1 published April 30, 2004 (69 FR 23951) and Phase 2 published November 29, 2005 (70 FR 71612). The rule includes requirements that involve collecting information from states with areas that have been designated nonattainment for the 8-hour ozone NAAQS. These information collection milestones include state submission of an attainment demonstration State Implementation Plan (SIP), a Reasonable Further Progress (RFP) SIP, and a Reasonable Available Control Technology (RACT) SIP. However, not all of the milestones and associated burden and administrative costs estimates apply to every designated nonattainment area. Areas with cleaner air quality have fewer requirements.

Burden Statement: The annual public reporting and recordkeeping burden for this collection of information is estimated to average 171 hours per response. Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Respondents/Affected Entities: State and local governments.

Estimated total number of respondents: 21.

Frequency of response: Annual.

Estimated total annual burden hours: 6,667 hours.

Estimated total annual costs: $434,000 in labor costs. There are no capital investment or maintenance and operational costs.

Changes in the Estimates: There is a decrease of 278,666 hours in the total estimated burden currently identified in the OMB Inventory of Approved ICR Burdens. This decrease results from the number of non-attainment areas decreasing as areas have come into compliance with the standards and the burden associated with the remaining non-attainment areas decreasing because of the work they have done previously to comply with the standards.

Dated: July 21, 2010.
John Moses,
Director, Collection Strategies Division.

[FR Doc. 2010-18369 Filed 7-26-10; 8:45 am]

BILLING CODE 6560-50-P